DEPARTMENT OF ENERGY

Federal Energy Regulatory Commission

[Docket No. RP02-132-005]

Viking Gas Transmission Company; Notice of Compliance Filing

December 4, 2002.

Take notice that on November 27, 2002, Viking Gas Transmission Company (Viking) tendered for filing as part of its FERC Gas Tariff, First Revised Volume No. 1, the following tariff sheets to be effective January 1, 2003:

Fourth Revised Sheet No. 5

Second Revised Sheet No. 5A

Second Revised Sheet No. 5B

Second Revised Sheet No. 5C

Second Revised Sheet No. 5D

Second Revised Sheet No. 5E

Second Revised Sheet No. 5F

Second Revised Sheet No. 5G

Second Revised Sheet No. 5H

First Revised Sheet No. 5I

Viking states that the purpose of this filing is to comply with the Offer of Settlement and Stipulation and Agreement (Settlement) filed by Viking on September 13, 2002 in the above-referenced docket and approved by the Commission by order issued November 8, 2002. Specifically, Viking states that it is filing to place the Stage 1 Settlement Rates into effect in accordance with the terms and conditions of the Settlement.

Viking states that copies of this filing have been served on all parties designated on the official service list in this proceeding, on all of Viking's jurisdictional customers and to affected state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31266 Filed 12-11-02; 8:45 am]

BILLING CODE 6717-01-P